DEPARTMENT OF TRANSPORTATION

Federal Aviation Administration

Proposed Federal Aviation Administration policy for the Certification of Restricted Category Aircraft

AGENCY: Federal Aviation Administration (DOT).

ACTION: Notice of availability and request for public comment.

SUMMARY: This notice announces the availability of and request for comments on the proposed policy for the certification of restricted category aircraft. The proposed policy will be in the form of an Order prescribing how to certify a restricted category aircraft. The proposed Order will apply to Aircraft Certification Service personnel, Flight Standards Service personnel, persons designated by the Administrator, and organizations associated with the certification processes required by Title 14 of the Code of Federal Regulations (14 CFR).

DATES: Comments must be received on or before November 30, 2004.

ADDRESSES: Submit comments on the proposed policy to: Federal Aviation Administration, Aircraft Certification Service, Aircraft Engineering Division, AIR-100, Room 815, 800 Independence Avenue, SW., Washington, DC 20591. You may deliver comments to: Federal Aviation Administration, Room 815, 800 Independence Avenue, SW., Washington, DC 20591, or electronically to: Graham Long, Federal Aviation Administration, Aircraft Certification Service, at 9-awa-air110-gn12@faa.gov.

FOR FURTHER INFORMATION CONTACT: Mr. Graham Long, AIR-110, Room 815, Federal Aviation Administration, Aircraft Certification Service, Aircraft Engineering Division, 800 Independence Avenue, SW., Washington, DC 20591, Telephone (202) 267-3715, Fax: (202) 237-5340, or e-mail: 9-awa-air110-gn12@faa.gov.

SUPPLEMENTARY INFORMATION:

Comments Invited

Interested persons are invited to comment on the proposed policy listed in this notice by submitting such written data, views, or arguments as they desire to the above address. Comments received on the proposed policy may be examined, before and after the comment closing date, in Room 815, FAA Headquarters Building, 800 Independence Avenue, SW., Washington, DC 20591, weekdays except Federal holidays, between 8:30 a.m. and 3:30 p.m. The Director of the Aircraft Certification Service will consider all communications received on or before the closing date before issuing the final policy.

Background

This order prescribes how the Federal Aviation Administration (FAA) certifies restricted category aircraft under Title 14 of the Code of Federal Regulations (14 CFR) §§ 21.25 (type certificates), and 21.185 (airworthiness certificates). This order details the responsibilities and procedures for the certification of restricted category aircraft and supplements FAA Orders 8110.4, Type Certification; 8120.2, Production Approvals and Certificate Management Procedures; and 8130.2, Airworthiness Certification of Aircraft and Related Products.

How To Obtain Copies

You may get a copy of the proposed policy from the Internet at: http://www.faa.gov/Certification/Aircraft/DraftDoc/Comments.htm, under Draft Orders. You may also request a copy from Mr. Graham Long. See the section entitled Further Information Contact for the complete address.

Dated: Issued in Washington, DC, on September 30, 2004.
Nancy C. Lane,
Acting Assistant Manager, Aircraft Engineering Division, Aircraft Certification Service.

[FR Doc. 04-22617 Filed 10-7-04; 8:45 am]

BILLING CODE 4910-13-M